DEPARTMENT OF THE INTERIOR

National Park Service

[NPS-WASO-NRNHL-DTS#-27009; PPWOCRADI0, PCU00RP14.R50000]

National Register of Historic Places; Notification of Pending Nominations and Related Actions

AGENCY: National Park Service, Interior.

ACTION: Notice.

SUMMARY: The National Park Service is soliciting comments on the significance of properties nominated before November 17, 2017, for listing or related actions in the National Register of Historic Places.

DATES: Comments should be submitted by December 26, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before November 17, 2017. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CALIFORNIA

Los Angeles County

Mar Vista Gardens (Garden Apartment Complexes in the City of Los Angeles, 1939-1955 MPS), 11965 Allin St., Los Angeles, MP100003283

Sierra County

Webber Lake Hotel, Off Jackson Meadow Rd./Tahoe NF Rd. 7, Sierraville vicinity, SG100003281

COLORADO

Conejos County

Garcia—Espinosa—Garland Ranch Headquarters, 7527 Cty. Rd. 16, Antonito, SG100003274

Our Lady of Guadalupe Church, 6631-33 Cty. Rd. 13, Conejos, SG100003275

St. Joseph's Church, 19895 Cty. Rd. 8, Capulin, SG100003276

Costilla County

Chama Sociedad Proteccion Mutua de Trabajadores Unidos (SPMDTU) Lodge Hall (Culebra River Villages of Costilla County MPS), SW corner of Cty. Rds. 223 & L7, Chama, MP100003273

ILLINOIS

Cook County

Hermosa Bungalow Historic District (Chicago Bungalows MPS), Roughly bounded by W Belmont, N Lowell, W Diversey & N Kolmar Aves., Chicago, MP100003263

Kane County

Larkin Home for Children, 1212 Larkin Ave., Elgin, SG100003264

Ogle County

Rochelle Downtown Historic District, Primarily 300-400 blks. Lincoln Hwy, 400 blk. Cherry & 400-500 blks. W 4th Aves., 400 blk. Dewey & 300 blk. N 6th Sts., Rochelle, SG100003265

IOWA

Guthrie County

Yale High School Gymnasium, 414 Lincoln St., Yale, SG100003261

MAINE

Knox County

Mt. Battie Tower, At summit loop of Mt. Battie Rd., Camden, SG100003259

Piscataquis County

Boarding House and Storehouse at Churchill Depot, S of Churchill Dam Rd. 500 ft NE of Chamberlain Dam, T10 R12 WELS, SG100003258

OHIO

Hamilton County

Glendale Historic District (Boundary Increase and Decrease), Roughly bounded by OH 4/Springfield Pike, Oak Rd., RR right of way, Coral, Sharon and Morse Aves., Glendale, BC100003285

SOUTH DAKOTA

Custer County

Fairburn Historic Commercial District (Boundary Decrease), (Rural Resources of Eastern Custer County MPS), Blk. 7, Lots 3-10, Fairburn, BC100003267

UTAH

Salt Lake County

Boulevard Gardens Historic District, Roughly bounded by Quayle Ave., Main and W Temple Sts., Salt Lake City, SG100003268

Tooele County

Stockton School, 18 N Johnson St., Stockton, SG100003269

WASHINGTON

Adams County

Spokane, Portland and Seattle Railway Company—Cow Creek Viaduct (Bridges of the Spokane, Portland and Seattle Railway Company, 1906-1967 MPS), Milepost 304.4 former SP&S RR line, Ankeny vicinity, MP100003278

Spokane, Portland and Seattle Railway Company Bridge 291.4—O.W.R.&N., Crossing—Washtucna (Bridges of the Spokane, Portland and Seattle Railway Company, 1906-1967 MPS), Milepost 291.4, former SP&S line crossing Yeisley Rd., Washtucna vicinity, MP100003279

Franklin County

Spokane, Portland and Seattle Railway Company—Box Canyon Viaduct (Bridges of the Spokane, Portland and Seattle Railway Company, 1906-1967 MPS), Milepost 270.0, former SP&S RR line, Windust vicinity, MP100003280

In the interest of preservation, a SHORTENED comment period has been requested for the following resource:

GEORGIA

Clarke County

Oconee Street School, 594 Oconee St., Athens, SG100003284

Comment period: 3 days.

Additional documentation has been received for the following resource:

MASSACHUSETTS

Essex County

Beverly Center Business District, Roughly bounded by Chapman, Central, Brown, Dane, and Essex Sts., Beverly, AD84002313

Authority: Section 60.13 of 36 CFR part 60.

Dated: November 20, 2018.
Paul Lusignan,
Acting Chief, National Register of Historic Places/National Historic Landmarks Program.

[FR Doc. 2018-26646 Filed 12-7-18; 8:45 am]

BILLING CODE 4312-52-P